DEPARTMENT OF COMMERCE

National Oceanic and Atmospheric Administration

[I.D. 061500B]

Fisheries of the Exclusive Economic Zone off Alaska; Interactions with Steller Sea Lions

AGENCY: National Marine Fisheries Service (NMFS), National Oceanic and Atmospheric Administration (NOAA), Commerce.

ACTION: Notice of public meetings.

SUMMARY: NMFS announces two public meetings to review evidence for competitive interactions between Steller sea lions and the Pacific cod fisheries in the Bering Sea/Aleutian Island region and Gulf of Alaska, suggest additional analyses of such interaction, and suggest fishery management alternatives to avoid competition and its potential detrimental impact on the endangered western population of Steller sea lions and its critical habitat.

DATES: The meeting dates are:

1. June 27, 2000, 9:00 a.m. to 5 p.m., Alaska local time, Kodiak, Alaska.

2. June 29, 2000, 9:00 a.m. to 5 p.m., Seattle, Washington.

ADDRESSES: The meeting locations are:

1. Kodiak—Kodiak Fisheries Research Center (second building on Near Island), large conference room, 301 Research Court, Kodiak, Alaska.

2. Seattle—Alaska Fisheries Science Center, Building 4, Room 2039, 7600 Sand Point Way, NE. Seattle, Washington.

FOR FURTHER INFORMATION CONTACT: Shane Capron, 907/586-7312.

SUPPLEMENTARY INFORMATION: NMFS' Office of Sustainable Fisheries (OSF), is responsible for management of the groundfish fisheries in the exclusive economic zone off Alaska, including fisheries for Pacific cod. As such, OSF is required by the Endangered Species Act (ESA) to insure that these fisheries do not jeopardize the continued existence of listed species nor destroy or adversely modify critical habitat. Section 7 of the ESA requires that OSF consult with NMFS' Office of Protected Resources (OPR) to evaluate the potential effects of the fisheries. During a previous consultation completed December 23, 1999, OPR identified information indicating a potential for competition between the Pacific cod fisheries and Steller sea lions. Steller sea lions are considered to be food-limited, may use the same Pacific cod resources as are taken by the fisheries, and may be disadvantaged if fishery removals reduce the availability of cod to foraging sea lions. The information is not conclusive, but indicates that such competition may occur to the detriment of sea lions.

Two meetings will be held to allow the public to review the existing scientific and commercial data pertinent to the issue of competition between Steller sea lions and the Pacific cod fisheries, suggest additional analyses that may shed light on this issue, and suggest possible management measures to avoid competition and adverse modification of critical habitat.

OSF and OPR are currently involved in an additional section 7 consultation under the ESA. This consultation is focused on the overall effects of the groundfish fisheries off Alaska as implemented under the Fishery Management Plan for the Bering Sea/Aleutian Islands Groundfish and the Fishery Management Plan for Groundfish of the Gulf of Alaska. The potential effect of the Pacific cod fisheries on the western population of Steller sea lions and its critical habitat is one of many issues that will be addressed in this comprehensive consultation. Input from the public meetings announced here, and any resulting changes to Pacific cod fishery management measures, will be reflected in the portion of the comprehensive consultation dealing with this particular issue.

Special Accommodations

These meetings are physically accessible to people with disabilities. Requests for sign language interpretation or other auxiliary aids should be directed to Shane Capron (see FOR FURTHER INFORMATION CONTACT) at least 5 days prior to the meeting dates.

Dated: June 15, 2000.
Bruce C. Morehead,
Acting Director, Office of Sustainable Fisheries, National Marine Fisheries Service.

[FR Doc. 00-15665 Filed 6-20-00; 8:45 am]

BILLING CODE 3510-22-F